DEPARTMENT OF AGRICULTURE

Forest Service

Ochoco National Forest, Lookout Mountain Ranger District; Oregon; Canyon Fuels and Vegetation Management Project EIS

AGENCY: Forest Service, USDA.

ACTION: Notice of intent to prepare an environmental impact statement.

SUMMARY: The Ochoco National Forest is preparing an environmental impact statement (EIS) to analyze the effects of managing fuels and vegetation within the 31,500-acre Canyon project area, which is approximately 20 miles east of Prineville, Oregon. The project area includes National Forest System lands in the Upper Ochoco Creek Watershed. The alternatives that will be analyzed include the proposed action, no action, and additional alternatives that respond to issues generated through the scoping process. The Ochoco National Forest will give notice of the full environmental analysis and decision making process so interested and affected people may participate and contributes to the final decision.

DATES: Comments concerning the scope of the analysis must be received by March 20, 2009. The draft environmental impact statement is expected to be completed and available for public comment in September 2009. The final environmental impact statement is expected to be completed in December 2009.

ADDRESSES: Send written comments to Bill Queen, District Ranger, Lookout Mountain District, Ochoco National Forest, 3160 NE Third Street, Prineville, Oregon 97754. Alternately, electronic comments may be sent to comments-pacificnorthwest-ochoco@fs.fed.us. Electronic comments must be submitted as part of the actual e-mail message, or as an attachment in plain text (.txt), Microsoft Word (.doc), rich text format (.rtf), or portable document format (.pdf).

FOR FURTHER INFORMATION CONTACT: Rob Rawlings, Project Leader, or Marcy Boehme, Environmental Coordinator, at 3160 NE Third Street, Prineville, Oregon 97754, or at (541) 416-6500, or by e-mail at rrawlings@fs.fed.us or nboehrne @J.fed.us. Responsible Official: The responsible official will be Jeff Walter, Forest Supervisor, Ochoco National Forest, 3160 NE., Third Street, Prineville, Oregon 97754.

SUPPLEMENTARY INFORMATION: Purpose and Need. The Lookout Mountain Ranger District has determined that there is a need for fuels and vegetation management activities in the project area by comparing the existing condition to the desired conditions described in the Ochoco National Forest Land and Resource Management Plan. The existing condition of the Upper Ochoco Creek Watershed was evaluated in 2004 and documented in the Upper Ochoco Creek Watershed Analysis. Generally speaking, the Watershed Analysis determined that vegetation conditions in the watershed have departed from the historic condition in several ways. Important departures include changes in timber species compositions, a reduction in singlestratum late and old structured forest, an increased risk of large-scale loss of forest to wildfire, an increased risk of insect infestation and/or disease that can impact timber stands, and a decline in the condition of riparian vegetation.

The purpose and need for this proposal is to (1) Maintain and increase the abundance of late and old structure (LOS) stands; (2) reduce fuels and the potential for high-intensity wildfires; (3) maintain conditions that currently support low-intensity fires; (4) reduce the susceptibility of the landscape to large-scale infestation by insects and disease; (5) enhance hardwood communities, such as aspen and cottonwood; (6) increase riparian vegetation and large tree structure in Riparian Habitat Conservation Areas (RHCAs); and (7) increase earlyseral species composition.

Proposed Action. The proposed action includes a variety of management strategies and activities, including commercial thinning with follow-up precommercial thinning and/or slash treatment (4,859 acres), precommerical thinning with slash treatment (5,494 acres), juniper cutting with slash treatment (1,397 acres), hardwood and riparian vegetation treatment (236 acres), and underbuming where no other treatments are proposed (1,989 acres). Implementation of the proposed action would require some connected actions; these include headcut repair and stream restoration at five locations, road construction (19.5 miles) and road reconstruction (13.2 miles).

Issues. Preliminary issues identified include the potential effect of the proposed action on wildlife habitat, water quality, fish habitat, visual quality, and recreational use. In addition, the team will analyze the cumulative effects of this proposed action where it overlaps with the effects of other activities.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by September, 2009. The EPA will publish a Notice of Availability (NOA) of the draft EIS in the Federal Register. The final EIS is scheduled to be available December, 2009.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Ochoco National Forest. The responsible official will decide whether and how to conduct fuels and vegetation management activities in the Canyon planning area. The responsible official will also decide how to mitigate impacts of these actions and will determine when and how monitoring of effects will take place.

The Canyon Fuels and Vegetation Management Project decision and the reasons for the decision will be documented in the record of decision. That decision will be subject to Forest Service Appeal Regulations (35 CFR Part 215).

Dated: February 11, 2009.
William R. Queen,
District Ranger.

[FR Doc. E9-3363 Filed 2-17-09; 8:45 am]

BILLING CODE 3410-11-M